DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Northeast Region Dealer Purchase Reports.

OMB Control Number: 0648-0229.

Form Number(s): None.

Type of Request: Regular submission.

Number of Respondents: 726.

Average Hours per Response: 4 minutes.

Burden Hours: 2,517.

Needs and Uses: As part of Fishery Management Plan developed under the authority of the Magnuson-Stevens Fishery Conservation and Management Act, federally-permitted dealers in specified fisheries are required to submit information weekly regarding their fish purchases. The collected information is used by economists, biologists, and managers in the management of the fisheries NOAA is seeking to renew Paperwork Reduction Act approval for these requirements.

Affected Public: Business or other for-profit organizations.

Frequency: Weekly.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: April 12, 2010.
Gwellnar Banks,
Management Analyst, Office of the Chief Information Officer.

[FR Doc. 2010-8664 Filed 4-15-10; 8:45 am]

BILLING CODE 3510-22-P